DEPARTMENT OF COMMERCE

National Oceanic and Atmospheric Administration

RIN 0648-XA160

Marine Mammals; File No. 15330; Correction

AGENCY: National Marine Fisheries Service (NMFS), National Oceanic and Atmospheric Administration (NOAA), Commerce.

ACTION: Notice; receipt of application; correction.

SUMMARY: Notice is hereby given that Robin Baird, PhD, Cascadia Research, 218½ W. 4th Avenue, Olympia, WA 98501, has applied in due form for a permit to take marine mammals in the Pacific Ocean for the purposes of scientific research.

DATES: Written, telefaxed, or e-mail comments must be received on or before March 28, 2011.

ADDRESSES: The application and related documents are available for review by selecting “Records Open for Public Comment” from the Features box on the Applications and Permits for Protected Species (APPS) home page, https://apps.nmfs.noaa.gov, and then selecting File No. 15530 from the list of available applications.

These documents are also available upon written request or by appointment in the following office(s): See SUPPLEMENTARY INFORMATION.

Written comments on this application should be submitted to the Chief, Permits, Conservation and Education Division, at the address listed below. Comments may also be submitted by facsimile to (301) 713-0376, or by e-mail to NMFS.Pr1Comments@noaa.gov. Please include the File No. in the subject line of the email comment. Comments may also be submitted by e-mail. The mailbox address for providing e-mail comments is NMFS.Pr1Comments@noaa.gov. Include in the subject line of the e-mail comment the following document identifier: File No. 15330.

FOR FURTHER INFORMATION CONTACT: Laura Morse or Carrie Hubard, (301) 713-2289.

SUPPLEMENTARY INFORMATION: On February 25, 2011, notice was published in the Federal Register (76 FR 10560) that a request for a scientific research permit had been submitted by the above-named applicant. The file number for the application in the title and e-mail comment address is corrected in this document. All other information to the notice has been unchanged. Please refer to the February 25, 2011 notice for a summary of the application.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way, NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: February 25, 2011.
Tammy C. Adams,
Acting Chief, Permits, Conservation and Education Division, Office of Protected Resources, National Marine Fisheries Service.

[FR Doc. 2011-4811 Filed 3-2-11; 8:45 am]

BILLING CODE 3510-22-P